DEPARTMENT OF ENERGY

Federal Energy Regulatory Commission

Combined Notice of Filings #2

Take notice that the Commission received the following electric rate filings:

Docket Numbers: ER15-486-002.

Applicants: Peninsula Power, LLC.

Description: Tariff Amendment per 35.17(b): Peninsula Power, LLC (FERC Electric Tariff) to be effective 1/1/2015.

Filed Date: 2/25/15.

Accession Number: 20150225-5223.

Comments Due: 5 p.m. ET 3/18/15.

Docket Numbers: ER15-1119-000.

Applicants: Midcontinent Independent System Operator, Inc.

Description: § 205(d) rate filing per 35.13(a)(2)(iii): 2015-02-25_SA 2751 GRE-OTP T-L IA Gorton Tap to be effective 2/26/2015.

Filed Date: 2/25/15.

Accession Number: 20150225-5194.

Comments Due: 5 p.m. ET 3/18/15.

Docket Numbers: ER15-1120-000.

Applicants: Nevada Power Company.

Description: § 205(d) rate filing per 35.13(a)(2)(iii): Service Agreement No. 14-00081 NPC and Aiya LGIA Amded and Restated to be effective 2/13/2015.

Filed Date: 2/25/15.

Accession Number: 20150225-5275.

Comments Due: 5 p.m. ET 3/18/15.

Docket Numbers: ER15-1121-000.

Applicants: Nevada Power Company.

Description: Initial rate filing per 35.12 Service Agreement No. 12-00082 NPC and Moapa LGIG to be effective2/13/2015.

Filed Date: 2/25/15.

Accession Number: 20150225-5278.

Comments Due: 5 p.m. ET 3/18/15.

Docket Numbers: ER15-1122-000.

Applicants: Nevada Power Company.

Description: Initial rate filing per 35.12 Service Agreement No. 14-00076 NPC and Playa LGIA to be effective2/13/2015.

Filed Date: 2/25/15.

Accession Number: 20150225-5283.

Comments Due: 5 p.m. ET 3/18/15.

Take notice that the Commission received the following PURPA 210(m)(3) filings:

Docket Numbers: QM15-2-000.

Applicants: Northern States Power Company, a Minnesota corporation.

Description: Application for Relief from Obligation to Purchase Output of Twin Cities Hydro Plant of Northern States Power Company, a Minnesota corporation.

Filed Date: 2/18/15.

Accession Number: 20150218-5126.

Comments Due: 5 p.m. ET 3/24/15.

Docket Numbers: QM15-2-000.

Applicants: Northern States Power Company, a Minnesota corporation.

Description: Amendment to February 18, 2015 Application for Relief from Obligation to Purchase Output of Twin Cities Hydro Plant of Northern States Power Company, a Minnesota corporation.

Filed Date: 2/24/15.

Accession Number: 20150224-5264.

Comments Due: 5 p.m. ET 3/24/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2015.
Nathaniel J. Davis, Sr.,
Deputy Secretary.

[FR Doc. 2015-04370 Filed 3-2-15; 8:45 am]

BILLING CODE 6717-01-P